FEDERAL COMMUNICATIONS COMMISSION

47 CFR Part 64

[WC Docket No. 12-375, FCC 15-136]

Rates for Interstate Inmate Calling Services

AGENCY: Federal Communications Commission.

ACTION: Final rule; announcement of OMB approval.

SUMMARY: In this document, the Commission announces that the Office of Management and Budget (OMB) has approved, for a period of three years, the annual reporting and certification requirement, consumer disclosure requirement, and one-time data collection associated with the Commission's Inmate Calling Services Order (Order), FCC 15-136, published on December 18, 2015.

DATES: The one-time data collection was approved by OMB under OMB Control No. 3060-1221 on January 9, 2017. The annual reporting and certification requirements and the consumer disclosure requirements in 47 CFR 64.6060 and 64.6110, published at 80 FR 79135, December 18, 2015 were approved by OMB under OMB Control No. 3060-1222 on January 9, 2017.

FOR FURTHER INFORMATION CONTACT: Gil Strobel, Pricing Policy Division, Wireline Competition Bureau, at (202) 418-1520, or email: gil.strobel@fcc.gov.

SUPPLEMENTARY INFORMATION: This document announces that, on January 9, 2017, OMB approved the annual reporting and certification requirement and consumer disclosure requirement, relating to the rules contained in the Commission's Order. The OMB Control Number for the annual reporting, certification, and consumer disclosure requirements is 3060-1222. This document further announces that, on January 9, 2017, OMB approved the one-time data collection associated with the Order. The OMB Control Number for the one-time data collection is 3060-1221. The Commission publishes this document as an announcement of the OMB approval of the forms associated with the annual reporting and certification requirements and with the one-time data collection, as well as OMB's approval of the consumer disclosure requirements. If you have any comments on the burden estimates listed below, or how the Commission can improve the collections and reduce any burdens caused thereby, please contact Nicole Ongele, Federal Communications Commission, Room 1-A620, 445 12th Street SW., Washington, DC 20554. Please include the relevant OMB Control Number, 3060-1222 or 3060-1221, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received the final OMB approval on January 9, 2017, for the annual reporting, certification, and consumer disclosure requirements and one-time data collection contained in the modifications to the Commission's rules in 47 CFR part 64 and in the Commission's Order. Under 5 CFR part 1320, an agency may not conduct or sponsor a collection of information unless it displays a current, valid OMB Control Number.

No person shall be subject to any penalty for failing to comply with a collection of information subject to the Paperwork Reduction Act that does not display a current, valid OMB Control Number.The OMB Control Numbers are 3060-1222 and 3060-1221.

The foregoing notice is required by the Paperwork Reduction Act of 1995, Public Law 104-13, October 1, 1995, and 44 U.S.C. 3507.

The total annual reporting burdens and costs for the respondents are as follows:

OMB Control Number: 3060-1222.

OMB Approval Date: January 9, 2017.

OMB Expiration Date: January 31, 2020.

Title: Inmate Calling Services Data Collection; Annual Reporting, Certification, and Consumer Disclosure Requirements.

Form Number(s): FCC Form 2301(a) and FCC Form 2301(b).

Type of Review: New collection.

Respondents: Business or other for-profit.

Number of Respondents and Responses: 15 respondents; 15 responses.

Estimated Time per Response: 5 hours-60 hours.

Frequency of Response: Annual reporting and certification requirements; third party disclosure requirement.

Obligation to Respond: Mandatory. Statutory authority for this information collection is contained in 47 U.S.C. 1, 4(i), 4(j), 201, 218, 220, 225, and 303(r) of the Communications Act of 1934, as amended, 47 U.S.C. 151, 154(i)-(j), 201, 218, 220, 225 and 303(r).

Total Annual Burden: 1,200 hours.

Total Annual Cost: No cost.

Privacy Act Impact Assessment: No impact(s).

Nature and Extent of Confidentiality: The Commission anticipates providing confidential treatment for proprietary information submitted by providers of inmate calling services (ICS). Parties that comply with the terms of a protective order for the proceeding will have an opportunity to comment on the data.

Needs and Uses: Section 201 of the Communications Act of 1934 Act (Act), as amended, 47 U.S.C. 201, requires that ICS providers' rates and practices be just and reasonable. The Commission's Second Report and Order and Third Further Notice of Proposed Rulemaking (Second Report and Order), WC Docket No., FCC 15-136, requires that ICS providers file annual reports with the Commission, including certifications that the reported data are complete and accurate. The annual reporting and certification rules require ICS providers to file, among other things: Data regarding their ICS rates and minutes of use by facility and size of facility; current ancillary service charge amounts and the instances of use of each; and the monthly amount of any site commission payments. The Commission also requires an officer of each ICS provider annually to certify the accuracy of the data submitted and the provider's compliance with the Second Report and Order. The consumer disclosure rule requires ICS providers to inform customers of their rates and charges. The data will assist the Commission in, among other things, ensuring compliance with the Second Report and Order and monitoring the effectiveness of the ICS reforms adopted therein. The data will be used to enable the Commission to assess the costs related to ICS and ensure that ICS rates and ancillary service charges related to ICS rates remain just and reasonable as required by section 201 of the Act.

OMB Control Number: 3060-1221.

OMB Approval Date: January 9, 2017.

OMB Expiration Date: January 31, 2020.

Title: Inmate Calling Services Data Collection, One-Time Data Collection.

Form Number: FCC Form 2300.

Type of Review: New collection.

Respondents: Business or other for-profit.

Number of Respondents and Responses: 15 respondents; 15 responses.

Estimated Time per Response: 100 hours.

Frequency of Response: One-time reporting requirement.

Obligation to Respond: Mandatory. Statutory authority for this information collection is contained in 47 U.S.C. 1, 4(i), 4(j), 201, 218, 220, and 303(r) of the Communications Act of 1934, as amended, 47 U.S.C. 151, 154(i)-(j), 201, 218, 220 and 303(r).

Total Annual Burden: 1,500 hours.

Total Annual Cost: No cost.

Privacy Act Impact Assessment: No impact(s).

Nature and Extent of Confidentiality: The Commission anticipates providing confidential treatment for proprietary information submitted by inmate calling service (ICS) providers. Parties that comply with the terms of a protective order for the proceeding will have an opportunity to comment on the data.

Needs and Uses: Section 201 of the Communications Act of 1934 Act (Act), as amended, 47 U.S.C. 201, requires that ICS providers' interstate rates and practices be just and reasonable. The Commission's Second Report and Order and Third Further Notice of Proposed Rulemaking (FNPRM) requires that all ICS providers comply with a one-time mandatory data collection. ICS providers must submit data on the costs of providing—and the demand for—interstate, international, and intrastate ICS. The data collection requires ICS providers to submit data on ICS calls, various ICS costs, company and contract information, information about facilities served, ICS revenues, ancillary fees, and mandatory taxes and fees. ICS providers are also required to apportion direct costs for each cost category and to explain how joint and common costs are apportioned among the facilities they serve and the services they provide. The data will be used to enable the Commission to assess the costs related to ICS and ensure that ICS rates and fees related to ICS rates remain just and reasonable as required by section 201 of the Act. Responses to the collection are due March 1, 2017.

The Commission's Wireline Bureau staff will develop a standardized template for the submission of data and provide instructions to simplify compliance with and reduce the burdens of the data collection. The template also includes filing instructions and text fields for respondents to use to explain portions of their filings, as needed. See FCC Form 2300. Providers are encouraged to file their data electronically via the Commission's Electronic Comment Filing System (ECFS).

Federal Communications Commission.
Marlene H. Dortch,
Secretary, Office of the Secretary.

[FR Doc. 2017-03900 Filed 2-28-17; 8:45 am]

BILLING CODE 6712-01-P